DEPARTMENT OF AGRICULTURE

Forest Service

Forest-Wide Integrated Weed Management, Lolo National Forest; Missoula, Mineral, Sanders, Granite, Lewis and Clark, Flathead, Ravalli, Lake and Powell Counties, MT

AGENCY: Forest Service, USDA.

ACTION: Notice; intent to prepare an environmental impact statement.

SUMMARY: The Forest Service will prepare an environmental impact statement (EIS) to disclose the effects of Forest-wide Integrated Weed Management treatments that includes herbicide (aerial and ground application), biological, and manual control methods.

DATES: Initial comments concerning the analysis should be received in writing no later than September 20, 2004.

Responsible Official: Send written comments to Deborah L.R. Austin, Forest Supervisor, Lolo National Forest, Building 24, Fort Missoula, Missoula, MT 59804.

FOR FURTHER INFORMATION CONTACT: Andy Kulla, Forest Weed Program Manager, or Bruce Higgins, Project Leader at the Missoula Ranger District, Building 24A, Fort Missoula, Missoula, MT 59801, or at (406) 329-3750. You may also contact them via e-mail—akulla@fs.fed.us or bdhiggins@fs.fed.us.

Project Description: The Lolo National Forest proposes to manage invasive plant species through the use of an integrated weed management approach that utilizes a variety of control methods. Treatments areas would be identified based upon specific representative site types, forest-wide priority screening criteria, and standardizes methodology for resource protection. The proposed action would treat a maximum of 15,000 acres per year with herbicides (less than one percent of the Lolo National Forest acreage), using ground or aerial applied methods. No limit to the number of acres of biological or manual control methods is proposed. Prevention and education strategies will continue, as present, to be a key component of the overall management approach.

The proposed action is in response to the need to respond promptly to new weed species invasions, the spread of existing infestations and to control existing weed infestations in areas outside of existing projects areas with NEPA decisions. Representative site types include: bunchgrass winter ranges, burned areas, areas of concentrated public use, administrative sites, disturbed areas along roads, trails, trailheads, power lines, right-of-ways, gravel and rock quarries, and fuels reduction projects.

Effects of the proposed action on recreation, wildlife, native vegetation, human health, threatened and endangered species will be disclosed in the analysis. Alternatives to be considered in detail include the no action and proposed action. Additional alternatives may be identified during the public scoping process.

The Federal Forest Service is the lead agency for preparing this EIS. They will consult with the United States Fish and Wildlife Service when making this decision. The responsible official who will make the decision is Deborah L.R. Austin, Forest Supervisor, Lolo National Forest, Building 24, Fort Missoula, Missoula MT 59804. She will decide on this proposal after considering comment, responses, environmental consequences, applicable laws, regulations, and policies. The decision and rationale for the decision will be documented in a Record of Decision.

The draft EIS is expected to be filed with the Environmental Protection Agency (EPA) and available for public review in May, 2005. At that time, the EPA will publish a Notice of Availability of the Draft EIS in the Federal Register. The comment period on the Draft EIS will be 45 days from the date of the EPA's notice of availability in the Federal Register. The final EIS is scheduled to be completed by October 2005. The comment period on the draft environmental impact statement will be 45 days from the date the Environmental Protection Agency publishes the Notice of Availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.)

Dated: July 28, 2004.
Deborah L.R. Austin,
Forest Supervisor, Lolo National Forest.

[FR Doc. 04-17748 Filed 8-3-04; 8:45 am]

BILLING CODE 3410-11-M